ENVIRONMENTAL PROTECTION AGENCY

40 CFR Part 52

[EPA-R09-OAR-2022-0607; FRL-10024-01-R9]

Air Plan Approval; Arizona; Maricopa County Air Quality Management Department

AGENCY: Environmental Protection Agency (EPA).

ACTION: Proposed rule.

SUMMARY: The Environmental Protection Agency (EPA) is proposing to approve revisions to the Maricopa County Air Quality Department (MCAQD or “County”) portions of the Arizona State Implementation Plan (SIP). These revisions concern the County's reasonably available control technology (RACT) demonstration for the aerospace coating category (“aerospace operations RACT certification”) and negative declarations for the 2008 8-hour ozone National Ambient Air Quality Standards (NAAQS or “standards”) in the portion of the Phoenix-Mesa ozone nonattainment areas regulated by the MCAQD, as well as a rule covering emissions of volatile organic compounds (VOCs) from surface coatings and industrial adhesives. We are proposing to approve the SIP revisions under the Clean Air Act (CAA or “the Act”). We are taking comments on this proposal and plan to follow with a final action.

DATES: Comments must be received on or before September 6, 2022.

ADDRESSES: Submit your comments, identified by Docket ID No. EPA-R09-OAR-2022-0607 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with disabilities who needs a reasonable accommodation at no cost to you, please contact the person identified in the FOR FURTHER INFORMATION CONTACT section.

FOR FURTHER INFORMATION CONTACT: Nicole Law, EPA Region IX, 75 Hawthorne St., San Francisco, CA 94105. By phone: (415) 947-4126 or by email at Law.Nicole@epa.gov.

SUPPLEMENTARY INFORMATION: Throughout this document, “we,” “us” and “our” refer to the EPA.

Table of Contents

I. The State's Submittal

A. What documents did the State submit?

B. Are there other versions of these documents?

C. What is the purpose of the submitted documents?

II. The EPA's Evaluation and Action

A. How is the EPA evaluating the submitted documents?

B. Do the documents meet the evaluation criteria?

C. Public Comment and Proposed Action

III. Incorporation by Reference

IV. Statutory and Executive Order Reviews

I. The State's Submittal

A. What documents did the State submit?

Table 1 lists the documents addressed by this proposal with the dates that they were adopted by the local air agency and submitted by the Arizona Department of Environmental Quality (ADEQ).

Table 1—Submitted Documents
Local agency | Document | Adopted | Submitted
MCAQD | Maricopa County Reasonably Available Control Technology (RACT) Certification for Volatile Organic Compound (VOC) Emissions from Aerospace Manufacturing and Rework Operations in Maricopa County June 2021 | 06/23/21 | 06/30/21
MCAQD | Rule 336 Surface Coating Operations and Industrial Adhesive Application Processes | 09/01/21 | 09/17/21
MCAQD | Negative Declarations for Three Coating Categories Listed in the 2008 Control Techniques Guidelines for Miscellaneous Metal and Plastic Parts Coatings | 09/01/21 | 09/17/21

On December 20, 2021, the submittal for the aerospace operations RACT certification was deemed by operation of law to meet the completeness criteria in 40 CFR part 51 Appendix V. On March 17, 2022, the submittals for the negative declarations and MCAQD Rule 336 were deemed by operation of law to meet the completeness criteria in 40 CFR part 51 Appendix V. The completeness criteria in 40 CFR part 51 Appendix V must be met before formal EPA review.

B. Are there other versions of these documents?

There are no previous versions of the aerospace operations RACT certification in the MCAQD portion of the Arizona SIP for the 2008 Ozone NAAQS. ADEQ previously submitted a negative declaration for this RACT control techniques guideline (CTG) category, though the EPA disapproved the negative declaration on January 7, 2021 (86 FR 971).

We conditionally approved an earlier version of Rule 336 and RACT demonstration for the Miscellaneous Metal and Plastic Parts Coating (MMPPC) CTG ¹ into the SIP on January 7, 2021 (86 FR 971). The MCAQD adopted revisions to the SIP-approved version and negative declarations for subcategories of the CTG on September 1, 2021, and ADEQ submitted them to us on September 17, 2021. In its submittal letter, ADEQ requested that, upon approval of the revised version of Rule 336, the EPA remove the old version of this rule from this SIP. If we take final action to approve the September 1, 2021 version of Rule 336, this version will replace the previously approved version of this rule in the SIP.

¹ “Control Techniques Guidelines for Miscellaneous Metal and Plastic Parts Coatings,” EPA-453/R-08-003, September 2008.

C. What is the purpose of the submitted documents?

Emissions of VOCs contribute to the production of ground-level ozone, smog, and particulate matter (PM), which harm human health and the environment. Section 110(a) of the CAA requires states to submit regulations that control VOC emissions. Sections 182(b)(2) and (f) require that SIPs for ozone nonattainment areas classified as Moderate or above implement RACT for any source covered by a Control Techniques Guidelines (CTG) document and for any major source of VOCs or NOX. The MCAQD is subject to this requirement because it regulates the Maricopa County portion of the Phoenix-Mesa ozone nonattainment area that is currently classified as a Moderate nonattainment area for the 2008 8-hour ozone NAAQS. Therefore, the MCAQD must, at a minimum, adopt RACT-level controls for all sources covered by a CTG document and for all major non-CTG sources of VOCs or NOX within the ozone nonattainment area that it regulates. Any stationary source that emits or has the potential to emit at least 100 tons per year (tpy) of VOCs or NOX is a major stationary source in a Moderate ozone nonattainment area (CAA section 182(b)(2), (f) and 302(j)).

Section III.D of the preamble to the EPA's final rule to implement the 2008 ozone NAAQS ² discusses RACT requirements. It states in part that RACT SIPs must contain adopted RACT regulations, certifications where appropriate that existing provisions are RACT, and/or negative declarations that no sources in the nonattainment area are covered by a specific CTG.³ It also provides that states must submit appropriate supporting information for their RACT submissions as described in the EPA's implementation rule for the 1997 ozone NAAQS.⁴ On January 7, 2021 (86 FR 971), the EPA partially disapproved MCAQD's negative declarations for RACT categories associated with the following CTG categories:

² 80 FR 12264 (March 6, 2015).

³ Id. at 12278.

⁴ See id. and 70 FR 71612, 71652 (November 29, 2005).

• “National Emission Standards for Hazardous Air Pollutants for Source Categories: Aerospace Manufacturing and Rework” (59 FR 29216),

• “Control of Volatile Organic Compound Emissions from Coating Operations at Aerospace Manufacturing and Rework Operations” (EPA-453/R-97-004),

• “Control Techniques Guidelines for Miscellaneous Industrial Adhesives” (EPA-453/R-08-005).

The submitted aerospace operations RACT certification provides MCAQD's analyses of its compliance with the CAA section 182 RACT requirements for the 2008 8-hour ozone NAAQS. It addresses the CTG RACT requirements in the “National Emission Standards for Hazardous Air Pollutants for Source Categories: Aerospace Manufacturing and Rework” and “Control of Volatile Organic Compound Emissions from Coating Operations at Aerospace Manufacturing and Rework Operations” CTGs.

MCAQD also adopted and submitted for SIP approval the following rule and negative declarations which address the CTG RACT requirements for the CTG categories for Miscellaneous Industrial Adhesives and MMPPC.

Rule 336 is a local control measure that establishes VOC content limits for surface coating operations and industrial adhesive application in the Maricopa County portion of the Phoenix-Mesa 8-hour ozone nonattainment area. On January 7, 2021 (86 FR 971), the EPA conditionally approved MCAQD Rule 336 and the RACT certification associated with the rule and the CTG categories. The conditional approval was based on a commitment from the State to submit a revised rule that would correct deficiencies in Rule 336 and establish RACT-level controls for sources covered by the CTG source categories:

• Control of Volatile Oranic Emissions from Existing Stationary Sources—Volume II: Surface Coating of Cans, Coils, Paper, Fabrics, Automobiles, and Light-Duty Trucks” EPA-450/2-77-008, May 1977 (cans and fabrics portions only ⁵),

⁵ Note that on January 7, 2021 (86 FR 971) EPA finalized approval of negative declaration for the other categories covered by this CTG: surface coating of coils, paper, automobiles, and light-duty trucks.

• “Control Technique Guidelines for Miscellaneous Metal and Plastic Parts Coatings,” EPA-450/2-78-15, June 1978, and

• “Control Techniques Guidelines fo Miscellaneous Metal and Plastic Parts Coatings,” EPA-453/R-08-003, September 2008.

The Rule 336 submittal included negative declarations for three subcatgories under the 2008 MMPPC CTG:

• Business Machine Plastic Part Coatings (Table 4 of the 2008 MMPPC CTG),

• Automotive/Transportation Plastic Part Coatings (Table 4 of the 2008 MMPPC CTG),

• Motor Vehicle Materials (Table 6 of the 2008 MMPPC CTG).

Revisions to Rule 336 and the negative declarations adopted on September 1, 2021, corrected the deficiencies. EPA's technical support document (TSD) has more information about the County's rule and the EPA's evaluations thereof.

II. The EPA's Evaluation and Action

A. How is the EPA evaluating the submitted documents?

SIP rules must require RACT for each category of sources covered by a CTG document and for each major source of VOCs or NOX in ozone nonattainment areas classified as Moderate or above (CAA section 182(b)(2)). The MCAQD regulates a Moderate ozone nonattainment area (40 CFR 81.305) so MCAQD's rules must implement RACT.

States should also submit for SIP approval negative declarations for those source categories for which they have not adopted RACT-level regulations (because they have no sources above the CTG-recommended applicability threshold) regardless of whether such negative declarations were made for an earlier SIP. To do so, the submittal should provide reasonable assurance that no sources subject to the CTG requirements currently exist in the portion of the ozone nonattainment area that is regulated by the MCAQD.

The County's analysis must demonstrate that each major source of VOCs or NOX in the ozone nonattainment area is covered by a RACT-level rule. In addition, for each CTG source category, the County must either demonstrate that a RACT-level rule is in place or submit a negative declaration. Guidance and policy documents that we use to evaluate CAA section 182 RACT requirements include the following:

1. “State Implementation Plans; General Preamble for the Implementation of Title I of the Clean Air Act Amendments of 1990,” 57 FR 13498 (April 16, 1992); 57 FR 18070 (April 28, 1992).

2. Memorandum dated May 18, 2006, from William T. Harnett, Director, Air Quality Policy Division, to Regional Air Division Directors, Subject: “RACT Qs & As—Reasonably Available Control Technology (RACT): Questions and Answers.”

3. “Final Rule to Implement the 8-hour Ozone National Ambient Air Quality Standard—Phase 2,” 70 FR 71612 (November 29, 2005).

4. “Implementation of the 2008 National Ambient Air Quality Standards for Ozone: State Implementation Plan Requirements,” 80 FR 12264 (March 6, 2015).

Rules that are submitted for inclusion into the SIP must be enforceable (CAA section 110(a)(2)), must not interfere with applicable requirements concerning attainment and reasonable further progress or other CAA requirements (CAA section 110(l)), and must not modify certain SIP control requirements in nonattainment areas without ensuring equivalent or greater emissions reductions (CAA section 193).

In addition to the documents listed above, guidance and policy documents that we use to evaluate enforceability, stringency, and revision/relaxation requirements include the following:

1. EPA Office of Air Quality Planning and Standards, “Issues Relating to VOC Regulation Cutpoints, Deficiencies, and Deviations,” May 25, 1988 (“the Bluebook,” revised January 11, 1990).

2. EPA Region IX, “Guidance Document for Correcting Common VOC & Other Rule Deficiencies,” August 21, 2001 (“the Little Bluebook”).

3. “Control of Volatile Organic Emissions from Existing Stationary Sources—Volume II: Surface Coating of Cans, Coils, Paper, Fabrics, Automobiles, and Light-Duty Trucks” (EPA-450/2-77-008, May 1977).

4. “Control of Volatile Organic Emissions from Existing Stationary Sources—Volume III: Surface Coating of Metal Furniture” (EPA-450/2-77-032, December 1977).

5. “Control of Volatile Organic Emissions from Existing Stationary Sources—Volume V: Surface Coating of Large Appliances” (EPA-450/2-77-034, December 1977).

6. “Control of Volatile Organic Emissions from Existing Stationary Sources—Volume VI: Surface Coating of Miscellaneous Metal Parts and Products” (EPA-450/2-78-15 June 1978).

7. “Control Techniques Guidelines for Miscellaneous Metal and Plastic Parts Coatings” (EPA-453/R-08-003, September 2008).

8. “Control Techniques Guidelines for Metal Furniture Coatings” (EPA-453/R-07-005, September 2007).

9. “Control Techniques Guidelines for Large Appliance Coatings” (EPA 453/R-07-004, September 2007).

10. “Control Techniques Guidelines for Paper, Film, and Foil Coatings” (EPA-453/R-07-003, September 2007).

11. “Control Techniques Guidelines for Miscellaneous Industrial Adhesives” (EPA-453/R-08-005, September 2008).

B. Do the documents meet the evaluation criteria?

The submitted rule meets CAA requirements and is consistent with relevant guidance regarding enforceability, RACT, and SIP revisions. The TSD has more information on our evaluation. The submitted negative declarations describe how the MCAQD evaluated whether there were sources emitting VOCs in the CTG subcategories. After review of the emissions inventories list, we agree with the County's assessment determining the negative declarations are correct.

The MCAQD's aerospace operations RACT certification constitutes the County's demonstration that the existing SIP-approved MCAQD Rule 348 “Aerospace Manufacturing and Rework Operations” satisfies CAA section 182 RACT requirements for the 2008 8-hour ozone NAAQS for the CTG category covered by the EPA CTG for Control of Volatile Organic Compound Emissions from Coating Operations at Aerospace and Manufacturing Rework (EPA-453/R-97-004). This conclusion is based on MCAQD's comparison of Rule 348 against the EPA CTG as well as other EPA SIP-approved rules for this category in California,⁶ Indiana,⁷ and Texas.⁸ The VOC limits for various categories in Rule 348 are either equally or more stringent than the CTG, as well as the Indiana and Texas rules. However, the California district rules are more stringent in 16 coating categories and less stringent than Rule 348 in 13 coating categories. Of the 16 coating categories where the California district rules had more stringent VOC limits, MCAQD surveyed affected sources and determined the VOC emissions from those categories were found to be less than 0.5% of each facility's total VOC emissions. Additionally, the County summarized where the rule was consistent with the CTG: VOC control and capture efficiency of at least 85% by weight is an alternative to limiting the VOC limits: solvent cleaning requirements; VOC containment and disposal; exemptions; and definitions. Based on these findings, the EPA concludes that the RACT demonstration satisfies CAA section 182 RACT requirements for the 2008 8-hour ozone NAAQS for the CTG category covered by the EPA CTG for Control of Volatile Organic Compound Emissions from Coating Operations at Aerospace and Manufacturing Rework (EPA-453/R-97-004).

⁶ Eastern Kern Air Pollution Control District Rule 410.8 Aerospace Assembly and Coating Operations, adopted March 13, 2014 and EPA SIP approved May 17, 2016 (81 FR 30484) and Mojave Desert Air Quality Management District Rule 1118 Aerospace Assembly, Rework and Component Manufacturing Operations, adopted October 26, 2015 and EPA SIP approved June 21, 2017 (82 FR 28240).

⁷ 326 Indiana Administrative Code 8-21, adopted October 13, 2011 and approved as RACT February 13, 2019 (84 FR 3711).

⁸ 30 Texas Administrative Code 115.420-429, amended June 25, 2015 and approved as RACT April 30, 2019 (84 FR 18145).

C. Public Comment and Proposed Action

As authorized in section 110(k)(3) of the Act, the EPA proposes to fully approve the submitted rule, negative declarations, and RACT demonstration because they fulfill all relevant requirements. In addition, we propose to convert the partial conditional approval of RACT demonstrations for the 2008 8-hour ozone NAAQS with respect to the VOC source categories covered by Rule 336 and the negative declarations, as found in 40 CFR 52.119 (c)(3), to full approval. We will accept comments from the public on this proposal until September 6, 2022. If we take final action to approve the submitted rule and RACT demonstration, our final action would correct the deficiencies identified in our January 7, 2021 partial approval, partial disapproval, and partial conditional approval of parts of MCAQD's RACT SIP submittal for the 2008 8-hour ozone NAAQS (86 FR 971).

III. Incorporation by Reference

In this rule, the EPA is proposing to include in a final EPA rule regulatory text that includes incorporation by reference. In accordance with requirements of 1 CFR 51.5, the EPA is proposing to incorporate by reference MCAQD Rule 336, “Surface Coating Operations and Industrial Adhesive Application Process,” as described in Section I of this preamble. The EPA has made, and will continue to make, these materials available through https://www.regulations.gov and at the EPA Region IX Office (please contact the person identified in the FOR FURTHER INFORMATION CONTACT section of this preamble for more information).

IV. Statutory and Executive Order Reviews

Under the Clean Air Act, the Administrator is required to approve a SIP submission that complies with the provisions of the Act and applicable federal regulations. 42 U.S.C. 7410(k); 40 CFR 52.02(a). Thus, in reviewing SIP submissions, the EPA's role is to approve state choices, provided that they meet the criteria of the Clean Air Act. Accordingly, this proposed action merely proposes to approve state law as meeting federal requirements and does not impose additional requirements beyond those imposed by state law. For that reason, this proposed action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address disproportionate human health or environmental effects with practical, appropriate, and legally permissible methods under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Ozone, Reporting and recordkeeping requirements, Volatile organic compounds.

Authority: 42 U.S.C. 7401 et seq.

Dated: July 27, 2022.
Martha Guzman Aceves,
Regional Administrator, Region IX.

[FR Doc. 2022-16490 Filed 8-3-22; 8:45 am]

BILLING CODE 6560-50-P